DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project

Participant Feedback on Training Under the Cooperative Agreement for Mental Health Care Provider Education in HIV/AIDS Program II (OMB No. 0930-0195, Extension)—The Substance Abuse and Mental Health Services Administration's (SAMHSA) Center for Mental Health Services (CMHS) intends to continue to conduct a multi-site assessment of its Cooperative Agreement for Mental Health Care Provider Education in HIV/AIDS Program II until the end of the sites' expenditure of Program II funds (anticipated end date of September 2002). The education programs funded under this cooperative agreement are designed to disseminate knowledge of the psychological and neuropsychiatric sequelae of HIV/AIDS to both traditional (e.g., psychiatrists, psychologists, nurses, primary care physicians, medical students, and social workers) and non-traditional (e.g., clergy, and alternative health care workers) first-line providers of mental health services.

The multi-site assessment is designed to assess the effectiveness of particular training curricula, document the integrity of training delivery formats, and assess the effectiveness of the various training delivery formats. Analyses will assist CMHS in documenting the numbers and types of traditional and non-traditional mental health providers accessing training; the content, nature and types of training participants receive; and the extent to which trainees experience knowledge, skill and attitude gains/changes as a result of training attendance. The multi-site data collection design uses a two-tiered data collection and analytic strategy to collect information on (1) the organization and delivery of training, and (2) the impact of training on participants' knowledge, skills and abilities.

Information about the organization and delivery of training will be collected from trainers and staff who are funded by these cooperative agreements hence there is no respondent burden. All training participants attending sessions lasting less than 6 hours will be asked to complete a brief feedback form at the end of the training session. Trainees attending sessions lasting 6 hours or longer will be asked to complete brief pre- and post-session feedback questionnaires. A sample of trainees attending sessions lasting 6 hours or longer will also be asked to complete a brief follow-up telephone interview three months after the training session. CMHS has funded seven education sites under the Cooperative Agreement for Mental Health Care Provider Education in HIV/AIDS Program II. The annual burden estimates for this activity are shown below:

Form | Responses per respondent | Estimated number of respondents (× 7 sites) | Hours per response | Total hours
All Sessions
Session Report Form | 1 | 60 × 7 = 420 | 0.080 | 34
Sessions Less than 6 Hours
Participant Feedback Form | 1 | 600 × 7 = 4200 | 0.167 | 701
Neuropsychiatric Participant Feedback Form | 1 | 75 × 7 = 525 | 0.167 | 88
Ethics Participant Feedback Form | 1 | 75 × 7 = 525 | 0.167 | 88
Sessions 6 Hours or Longer
Pre-Training Participant Inventory | 1 | 200 × 7 = 1400 | 0.167 | 234
Post-Training Participant Inventory | 1 | 200 × 7 = 1400 | 0.250 | 350
Neuropsychiatric Pre-Training Participant Inventory | 1 | 50 × 7 = 350 | 0.167 | 58
Neuropsychiatric Post-Training Participant Inventory | 1 | 50 × 7 = 350 | 0.250 | 88
Participant Follow-up Form | 1 | 45 × 7 = 315 | 0.250 | 79
Monthly Form Submission
Monthly Form Mailing | ¹ 12 | 84 | 0.167 | 14
Total |  | 7,504 |  | 1,733
¹ Per site.

Send comments to Nancy Pearce, SAMHSA Reports Clearance Officer, Room 16-105, Parklawn Building, 5600 Fishers Lane, Rockville, MD 20857. Written comments should be received within 60 days of this notice.

Dated: March 27, 2001.
Richard Kopanda,
Executive Officer, SAMHSA.

[FR Doc. 01-8098 Filed 4-2-01; 8:45 am]

BILLING CODE 4162-20-P